DEPARTMENT OF ENERGY

Federal Energy Regulatory Commission

Combined Notice of Filings #1

September 2, 2008.

Take notice that the Commission received the following electric corporate filings:

Docket Numbers: EC08-120-000.

Applicants: Noble Thumb Windpark, LLC; Noble Thumb Windpark I, LLC; John Deere Renewables, LLC; Michigan Thumb Windpark, LLC.

Description: Noble Thumb Windpark, LLC et al. submits a joint application for authorization for disposition of jurisdictional facilities and request for expedited action.

Filed Date: 08/27/2008.

Accession Number: 20080829-0081.

Comment Date: 5 p.m. Eastern Time on Wednesday, September 17, 2008.

Take notice that the Commission received the following exempt wholesale generator filings:

Docket Numbers: EG08-91-000.

Applicants: Noble Great Plains Windpark, LLC.

Description: Self-Certification Notice of Exempt Wholesale Generator Status of Noble Great Plains Windpark, LLC under EG08-91.

Filed Date: 08/27/2008.

Accession Number: 20080827-5039.

Comment Date: 5 p.m. Eastern Time on Wednesday, September 17, 2008.

Docket Numbers: EG08-92-000.

Applicants: Ashtabula Wind, LLC.

Description: Notice of Self-Certification of Exempt Wholesale Generator Status of Ashtabula Wind, LLC in EG08-92.

Filed Date: 08/27/2008.

Accession Number: 20080827-5044.

Comment Date: 5 p.m. Eastern Time on Wednesday, September 17, 2008.

Take notice that the Commission received the following electric rate filings:

Docket Numbers: ER00-2117-006; ER00-2118-006; ER00-3751-006; ER02-24-011; ER01-389-009; ER92-521-003; ER07-400-002; ER08-1236-002; ER93-493-018; ER02-26-010; ER02-25-009.

Applicants: ANP Bellingham Energy Company, LLC; ANP Blackstone Energy Company, LLC; ANP Funding I, L.L.C.; Armstrong Energy LLLP; Calumet Energy Team, LLC; Hartwell Energy Limited Partnership; IPA Marketing, Inc.; IPA Trading, LLC; Milford Power Limited Partnership; Pleasants Energy, LLC; Troy Energy, LLC.

Description: IPA Entities submits notice of change in status with regard to the characteristics previously relied upon by the Commission in granting the IPA Entities market-based rate authority under ER00-2117 et al.

Filed Date: 08/27/2008.

Accession Number: 20080829-0098.

Comment Date: 5 p.m. Eastern Time on Wednesday, September 17, 2008.

Docket Numbers: ER05-717-008; ER05-721-008; ER04-374-008; ER99-2341-010; ER06-230-005; ER06-1334-005; ER07-277-003; ER07-810-002; ER08-237-002.

Applicants: Spring Canyon Energy LLC; Judith Gap Energy LLC; Invenergy TN LLC; Hardee Power Partners Limited; Wolverine Creek Energy LLC; Spindle Hill Energy LLC; Invenergy Cannon Falls LLC; Grays Harbor Energy LLC; Forward Energy LLC.

Description: Spring Canyon Energy LLC et al. submits notification of change of status under market-based rate authority under ER05-717 et al.

Filed Date: 08/28/2008.

Accession Number: 20080829-0114.

Comment Date: 5 p.m. Eastern Time on Thursday, September 18, 2008.

Docket Numbers: ER06-739-017; ER06-738-017; ER03-983-015; ER07-501-015; ER02-537-019; ER08-649-009.

Applicants: East Coast Power Linden Holding, LLC; Cogen Technologies Linden Venture, L.P.; Fox Energy Company LLC; Birchwood Power Partners, L.P.; Shady Hills Power Company, L.L.C.; EFS Parlin Holdings, LLC.

Description: Notice of Non-Material Change in Status of East Coast Power Linden Holding, LLC, et al. under ER06-739, et al.

Filed Date: 08/28/2008.

Accession Number: 20080828-5129.

Comment Date: 5 p.m. Eastern Time on Thursday, September 18, 2008.

Docket Numbers: ER07-530-000.

Applicants: Red Shield Environmental, L.L.C.

Description: Withdrawal of Application and Notice of Tariff Cancellation of Red Shield Environmental, L.L.C. under ER07-530.

Filed Date: 08/28/2008.

Accession Number: 20080828-5126.

Comment Date: 5 p.m. Eastern Time on Thursday, September 18, 2008.

Docket Numbers: ER07-869-004; ER06-615-030; ER07-475-005.

Applicants: California Independent System Operator Corporation.

Description: California Independent System Operator Corporation submits the instant filing in compliance with the following the Commission's Order “Order Conditionally Accepting Tariff Provisions, etc.”

Filed Date: 08/26/2008.

Accession Number: 20080829-0095.

Comment Date: 5 p.m. Eastern Time on Tuesday, September 16, 2008.

Docket Numbers: ER08-1039-001.

Applicants: DPL Energy, LLC.

Description: DPL Energy, LLC submits response to the 7/29/08 request for additional information from the FERC Staff, which sets forth the cost-based revenue requirement for DPL Energy to provide Reactive Supply and Voltage Control Generation, etc.

Filed Date: 08/28/2008.

Accession Number: 20080902-0170.

Comment Date: 5 p.m. Eastern Time on Thursday, September 18, 2008.

Docket Numbers: ER08-1044-001; ER08-1052-001.

Applicants: PJM Interconnection, L.L.C.

Description: PJM Interconnection, LLC submits revisions to Transmission Service Agreements for firm point-to-point service under the PJM Open Access Transmission Tariff as executed between PJM and (i) Orion Power Midwest , LP et al under ER08-1044.

Filed Date: 08/27/2008.

Accession Number: 20080829-0097.

Comment Date: 5 p.m. Eastern Time on Wednesday, September 17, 2008.

Docket Numbers: ER08-1059-001; ER06-615-031; ER07-1257-009; ER08-519-003.

Applicants: California Independent System Operator Corporation.

Description: California Independent System Operator Corporation submits Fifth Revised Sheet 264 et al to FERC Electric Tariff, Third Replacement Volume 1 in compliance with the Commission's 7/29/08 Order, effective 7/30/08.

Filed Date: 08/28/2008.

Accession Number: 20080829-0120.

Comment Date: 5 p.m. Eastern Time on Thursday, September 18, 2008.

Docket Numbers: ER08-1354-002.

Applicants: Occidental Chemical Corporation.

Description: Occidental Chemical Corp requests a 10-day notice period for their amendment to its application for order authorizing market-based rates etc.

Filed Date: 08/28/2008.

Accession Number: 20080829-0119.

Comment Date: 5 p.m. Eastern Time on Monday, September 8, 2008.

Docket Numbers: ER08-1451-000.

Applicants: Northwestern Corporation.

Description: Northwestern Corporation et al submits revised tariff sheets to existing non-conforming long-term service agreements on file with the Commission to permit Northwestern to request and obtain from Avista up to an additional 10 MW etc under ER08-1451.

Filed Date: 08/27/2008.

Accession Number: 20080829-0096.

Comment Date: 5 p.m. Eastern Time on Wednesday, September 17, 2008.

Docket Numbers: ER08-1452-000.

Applicants: Wisconsin River Power Company.

Description: Wisconsin River Power Company submits a New Construction Power Purchase Contract by and among Wisconsin River et al Original Rate Schedule FERC 5.

Filed Date: 08/28/2008.

Accession Number: 20080829-0094.

Comment Date: 5 p.m. Eastern Time on Thursday, September 18, 2008.

Docket Numbers: ER08-1453-000.

Applicants: Georgia Energy Cooperative.

Description: Georgia Energy Cooperative advise FERC that they are no longer a “public utility” subject to the Commission's jurisdiction as a result of the amendments to Section 201(c) of the Federal power Act etc.

Filed Date: 08/28/2008.

Accession Number: 20080829-0118.

Comment Date: 5 p.m. Eastern Time on Thursday, September 18, 2008.

Docket Numbers: ER08-1454-000.

Applicants: Westar Energy, Inc.

Description: Westar Energy, Inc submits an Interconnection Agreement between Westar and the City of Eudora, Kansas dated 7/28/08.

Filed Date: 08/28/2008.

Accession Number: 20080829-0117.

Comment Date: 5 p.m. Eastern Time on Thursday, September 18, 2008.

Docket Numbers: ER08-1455-000.

Applicants: Northeast Utilities Service Company.

Description: The Connecticut and Power Company submits the executed Preliminary Design Services Agreement for Watertown Renewable Power, LLC by and between CL&P and Watertown.

Filed Date: 08/28/2008.

Accession Number: 20080829-0116.

Comment Date: 5 p.m. Eastern Time on Thursday, September 18, 2008.

Docket Numbers: ER08-1456-000.

Applicants: Xcel Energy Services Inc.

Description: Northern States Power Co et al submits a Notice of Termination of the Non-Firm Energy Sales Agreement with Wisconsin Public Power, Incorporated System.

Filed Date: 08/28/2008.

Accession Number: 20080829-0115.

Comment Date: 5 p.m. Eastern Time on Thursday, September 18, 2008.

Docket Numbers: ER08-1457-000.

Applicants: PPL Electric Utilities Corporation.

Description: PPL Electric Utilities submits revised tariff sheets to the PJM Interconnection, LLC Open Access Transmission Tariff.

Filed Date: 08/28/2008.

Accession Number: 20080829-0122.

Comment Date: 5 p.m. Eastern Time on Thursday, September 18, 2008.

Docket Numbers: ER08-1458-000.

Applicants: New England Power Company.

Description: New England Power Co requests the FERC's acceptance of modified Appendices A through H to the Large Generator Interconnection Agreement with TransCanada Hydro Northeast, Inc etc.

Filed Date: 08/28/2008.

Accession Number: 20080829-0121.

Comment Date: 5 p.m. Eastern Time on Thursday, September 18, 2008.

Docket Numbers: ER08-1459-000.

Applicants: NSTAR Electric Company.

Description: NSTAR Electric Company submits First Supplement to Distribution Service Agreement with Mirant Canal, LLC regarding wheeling out service which NSTAR provides for Mirants's Oak Bluffs etc.

Filed Date: 08/28/2008.

Accession Number: 20080902-0165.

Comment Date: 5 p.m. Eastern Time on Thursday, September 18, 2008.

Docket Numbers: ER08-1460-000.

Applicants: Arizona Public Service Company.

Description: Arizona Public Service Company submits a non-conforming service agreement for network integration transmission service pursuant to the APS Open Access Transmission Tariff.

Filed Date: 08/28/2008.

Accession Number: 20080902-0166.

Comment Date: 5 p.m. Eastern Time on Thursday, September 18, 2008.

Docket Numbers: ER08-1461-000.

Applicants: Midwest Independent Transmission System.

Description: Midwest Independent Transmission System Operator, Inc submits proposed revisions to its Open Access Transmission and Energy Markets Tariff to amend Schedule 31, Reliability Coordination Service Cost Recovery Adder.

Filed Date: 08/28/2008.

Accession Number: 20080902-0167.

Comment Date: 5 p.m. Eastern Time on Thursday, September 18, 2008.

Docket Numbers: ER08-1462-000.

Applicants: PPL EnergyPlus, LLC.

Description: PPL EnergyPlus, LLC submits its proposed FERC Electric Tariff, Original Volume 1 and supporting cost data under which it specifies the revenue requirement for providing cost-based Reactive Supply and Voltage Control etc.

Filed Date: 08/28/2008.

Accession Number: 20080902-0168.

Comment Date: 5 p.m. Eastern Time on Thursday, September 18, 2008.

Docket Numbers: ER08-1463-000.

Applicants: Idaho Power Company.

Description: Idaho Power Company submits Annual Informational Filing showing the formula rate and formula rate revenue requirements in effect under Schedules 7, 8, and 9 of the OATT for the period beginning 10/1/08 and ending 9/30/08.

Filed Date: 08/28/2008.

Accession Number: 20080902-0169.

Comment Date: 5 p.m. Eastern Time on Thursday, September 18, 2008.

Take notice that the Commission received the following electric reliability filings:

Docket Numbers: RR06-1-017; RR07-4-004.

Applicants: North American Electric Reliability Corp.

Description: Motion of the North American Electric Reliability Corporation to File Corrected Attachment 7 to Compliance Filing in Response to March 21 2008 Order.

Filed Date: 08/28/2008.

Accession Number: 20080828-5055.

Comment Date: 5 p.m. Eastern Time on Thursday, September 11, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-20854 Filed 9-8-08; 8:45 am]

BILLING CODE 6717-01-P